COMMODITY FUTURES TRADING COMMISSION

RIN 3038-AF31

SECURITIES AND EXCHANGE COMMISSION

17 CFR Parts 275 and 279

[Release No. IA-6083; File No. S7-22-22]

RIN 3235-AN13

Form PF; Reporting Requirements for All Filers and Large Hedge Fund Advisers

Correction

In proposed rule document 2022-17724 appearing on pages 53832-53985 in the issue of Thursday, September 1, 2022, make the following correction:

§ 279.9 [Corrected]

On page 53900, in the second column, amendatory instruction 4 is corrected to read as set forth below:

§ 279.9 Form PF, reporting by investment advisers to private funds.

4. Form PF [referenced in § 279.9] is revised to read as follows. The revised version of Form PF is attached as Appendix A.

Note: The text of Form PF does not, and the amendments will not, appear in the Code of Federal Regulations.

[FR Doc. C1-2022-17724 Filed 9-6-22; 8:45 am]

BILLING CODE 0099-10-D